DEPARTMENT OF THE INTERIOR

National Park Service

General Management Plan Revision, Environmental Impact Statement, Petrified Forest National Park, Arizona

AGENCY: National Park Service, Department of the Interior.

ACTION: Notice of intent to prepare an environmental impact statement for the general management plan revision, Petrified Forest National Park.

SUMMARY: Under the provisions of the National Environmental Policy Act, the National Park Service is preparing an environmental impact statement for the general management plan (GMP) revision for Petrified Forest National Park. The environmental impact statement will be approved by the Director, Intermountain Region.

Petrified Forest National Park was established as a unit of the National Park System to preserve the mineralized remains of Mesozoic Forests (commonly known as the “Petrified Forest”), additional features of scenic and scientific interest, and the area's natural environment and cultural resources, for public use and benefit. It is located in northeastern Arizona. The Petrified Forest National Park Final General Management Plan/Development Concept Plans/Environmental Impact Statement was approved in 1992. The new GMP revision will address new perspectives on several key elements that were not fully considered at the time of the plan: (1) The potential impact of building/expanding proposed new facilities into previously undeveloped areas, particularly the increased visibility of facilities from busy visitor areas and wilderness, was not comprehensively addressed in the existing GMP; (2) The existing GMP did not recognize that many existing structures have historic significance and warrant full evaluation for adaptive re-use rather than the proposed removal. Further, the planned arrangement of buildings, parking, courtyards, and trails comprise significant cultural landscapes which would have been substantially altered by the existing plan without recognition of these values. There is a much greater awareness now of cultural values that warrant revision of the plan, including historic structures, cultural landscapes, archeology, ethnography, and the Native American Grave Protection and Repatriation Act; (3) It is unlikely that Petrified Forest National Park would receive the funding necessary to implement the proposals in the existing GMP; (4) The sustainability of proposing a lot of new construction versus the feasibility and sustainability of re-using existing structures was not adequately addressed in the existing plan; (5) More up-to-date information about handicapped accessibility is available; (6) Effectively preventing wood theft remains a very high priority, and more information on visitor behavior is now available; and (6) Bring plan into conformance with current NPS planning standards (NPS Director's Order 2).

The National Park Service is planning to begin public scoping in November, 2000 via a newsletter to American Indian tribes, neighboring communities, county commissioners, organizations, state and federal agencies, researchers and institutions, the Congressional Delegation, and visitors who signed up to be on the mailing list. There will also be a web site and press releases. The purpose of the newsletter, web site, and press release is to explain the planning process and to obtain comments concerning revision of the GMP. Comments may be addressed to the Superintendent, and should be received no later that 60-days from the publication of this Notice of Intent.

FOR FURTHER INFORMATION CONTACT: Superintendent Michelle Hellickson, Petrified Forest National Park, P.O Box 2217, Petrified Forest, AZ 86028; Tel: (520) 524-6228; FAX: (520) 524-3567; e-mail: michelle_hellickson@nps.gov.

Dated: October 13, 2000.
Ron Everhart,
Director, Intermountain Region.

[FR Doc. 00-27476 Filed 10-30-00; 8:45 am]

BILLING CODE 4310-70-P